FEDERAL ELECTION COMMISSION

Sunshine Act Notices

AGENCY: Federal Election Commission.

DATE AND TIME: Thursday, October 7, 2010, at 10 a.m.

PLACE: 999 E Street, NW., Washington, DC (Ninth Floor).

STATUS: this meeting will be open to the public.

ITEMS TO BE DISCUSSED: Draft Advisory Opinion 2010-19: Google by its counsel, Marc E. Elias, Esq. and Jonathan S. Berkon, Esq. of Perkins Coie LLP.

Draft Advisory Opinion 2010-21: ReCellular Inc. by its counsel, Michael B. Trister, Esq. and Allen H. Mattison, Esq. of Lichtman, Trister & Ross, PLLC.

Draft Advisory Opinion 2010-25: RG Entertainment Ltd. by its counsel, Lee E. Goodman, Esq. of LeClairRyan.

Draft Notice of Proposed Rulemaking on Independent Expenditures and Electioneering Communications by Corporations and Labor Organizations.

Management and Administrative Matters.

Individuals who plan to attend and require special assistance, such as sign language interpretation or other reasonable accommodations, should contact Lisa Chapman, Recording Secretary, at (202) 694-1040, at least 72 hours prior to the hearing date.

PERSON TO CONTACT FOR INFORMATION: Judith Ingram, Press Officer, Telephone: (202) 694-1220.

Shawn Woodhead Werth,
Secretary and Clerk of the Commission.

[FR Doc. 2010-25365 Filed 10-8-10; 8:45 am]

BILLING CODE 6715-01-M